NUCLEAR REGULATORY COMMISSION

Advisory Committee on Nuclear Waste; Notice of Meeting

The Advisory Committee on Nuclear Waste (ACNW) will hold its 125th meeting on March 21-23, 2001, at 11545 Rockville Pike, Rockville, Maryland, Room T-2B3. The entire meeting will be open to public attendance. The schedule for this meeting is as follows:

Wednesday, March 21, 2001

A. 8:30-10 a.m.: Opening Statement/Planning and Procedures (Open)—The Chairman will open the meeting with brief opening remarks. The Committee will then review items under consideration at this meeting and consider topics proposed for future ACNW meetings.

B. 10:15-10:35 a.m.: DOE's Status Report on Key Technical Issue (KTI) Resolution (Open)—The Committee will receive an update by a DOE representative as to the current status of the KTI resolution.

C. 10:35-12 Noon: Key Technical Issues—Vertical Slice Report (Open)—The Committee members will present a report on their assigned KTIs.

D. 1-2 p.m.: Partial Release of a Reactor Facility or Site for Unrestricted Use (Open)—The Committee will hear presentations by and hold discussions with representatives of the NRC staff regarding the partial release of a reactor facility or site for unrestricted use.

E. 2-3 p.m.: License Termination Plan Review—Lessons Learned (Open)—The Committee will hear presentations by and hold discussions with representatives of the NRC staff regarding lessons learned from experience with the License Termination Plan.

F. 3:15-5 p.m.: Commission Meeting Preparation (Open)—The Committee will discuss the topics scheduled for its March 22, 2001 meeting with the Commission.

G. 5-7 p.m.: Discussion of Proposed ACNW Reports (Open)—The Committee will discuss proposed ACNW reports on Entombment, Partial Release of Reactor Facility or Site for Unrestricted Use, Lessons Learned from Experience with the License Termination Plan, and High Level Waste Chemistry.

Thursday, March 22, 2001

H. 8:30-8:40 a.m.: Opening Remarks by the ACNW Chairman (Open)—The ACNW Chairman will make opening remarks regarding the conduct of the meeting.

I. 8:40-10 a.m.: Commission Meeting Preparation (Open)—The Committee will continue to discuss topics scheduled for its meeting with the Commission on March 22, 2001.

J. 10:30-12 Noon.: Meeting with the NRC Commissioners (Open)—The Committee will meet with the NRC Commissioners, Commissioners' Conference Room, One White Flint North to discuss ACNW's Integrated Strategy to Evaluate Staff's Overall License Review Capability and Staff's Sufficiency Review of DOE's Site Recommendation Considerations Report (SRCR), and related matters.

K. 1-2:30 p.m.: Proposed Revisions to 10 CFR Part 71, “Packaging and Transportation of Radioactive Material” (Open)—The Committee will hear presentations by and hold discussions with representatives of the NRC staff regarding proposed revisions to 10 CFR Part 71.

L. 2:45-5:30 P.M.: ACNW 2001 Action Plan (Open)—The Committee will finalize the ACNW Action Plan for CY 2001, review its self assessment for the year 2000, and other activities relevant to the conduct of Committee business.

Friday, March 23, 2001

M. 8:30-8:35 A.M.: Opening Remarks by the ACNW Chairman (Open)—The ACNW Chairman will make opening remarks regarding the conduct of the meeting.

N. 8:35-10 a.m.: Meeting Reports (Open)—The Committee will hear reports from the members and staff on meetings attended since the 124th ACNW Meeting, including the Waste Management 2001 Symposium, NWTRB Meeting, and joint meeting of the ACRS/ACNW Subcommittee on integrated safety assessment.

O. 10:15-1 p.m.: Discussion of Proposed ACNW Reports (Open)—The Committee will continue its discussion of proposed ACNW reports.

P. 1-1:30 p.m.: Miscellaneous (Open)—The Committee will discuss matters related to the conduct of Committee activities and matters and specific issues that were not completed during previous meetings, as time and availability of information permit.

Procedures for the conduct of and participation in ACNW meetings were published in the Federal Register on October 11, 2000 (65 FR 60475). In accordance with these procedures, oral or written statements may be presented by members of the public, electronic recordings will be permitted only during those portions of the meeting that are open to the public, and questions may be asked only by members of the Committee, its consultants, and staff. Persons desiring to make oral statements should notify Howard J. Larson, ACNW, as far in advance as practicable so that appropriate arrangements can be made to schedule the necessary time during the meeting for such statements. Use of still, motion picture, and television cameras during this meeting will be limited to selected portions of the meeting as determined by the ACNW Chairman. Information regarding the time to be set aside for taking pictures may be obtained by contacting the ACNW office, prior to the meeting. In view of the possibility that the schedule for ACNW meetings may be adjusted by the Chairman as necessary to facilitate the conduct of the meeting, persons planning to attend should notify Mr. Larson as to their particular needs.

Further information regarding topics to be discussed, whether the meeting has been canceled or rescheduled, the Chairman's ruling on requests for the opportunity to present oral statements and the time allotted therefore can be obtained by contacting Mr. Howard J. Larson, ACNW (Telephone 301/415-6805), between 8 a.m. and 5 p.m. EST.

ACNW meeting notices, meeting transcripts, and letter reports are now available for downloading or viewing on the internet at http://www.nrc.gov/ACRSACNW.

Videoteleconferencing service is available for observing open sessions of ACNW meetings. Those wishing to use this service for observing ACNW meetings should contact Mr. Theron Brown, ACNW Audiovisual Technician (301/415-8066), between 7:30 a.m. and 3:45 p.m. EST at least 10 days before the meeting to ensure the availability of this service. Individuals or organizations requesting this service will be responsible for telephone line charges and for providing the equipment and facilities that they use to establish the videoteleconferencing link. The availability of videoteleconferencing services is not guaranteed.

Dated: February 23, 2001.
Andrew L. Bates,
Advisory Committee Management Officer.

[FR Doc. 01-4957 Filed 2-28-01; 8:45 am]

BILLING CODE 7590-01-P